DEPARTMENT OF JUSTICE

Bureau of Alcohol, Tobacco, Firearms and Explosives

[OMB Number 1140-0067]

Agency Information Collection Activities; Proposed eCollection eComments Requested; Revision of a Currently Approved Collection; Licensed Firearms Manufacturers Records of Production, Disposition, and Supporting Data

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0067 (Licensed Firearms Manufacturers Records of Production, Disposition, and Supporting Data) is being revised due to change in burden, since there is an increase in the number of respondents, responses, and total burden hours. The proposed information collection is also being published to obtain comments from the public and affected agencies.

DATES: Comments are encouraged and will be accepted for 60 days until June 4, 2018.

FOR FURTHER INFORMATION CONTACT: If you have additional comments, particularly with respect to the estimated public burden or associated response time, have suggestions, need a copy of the proposed information collection instrument with instructions, or desire any additional information, please contact Dawn Smith, ATF Firearms Industry Programs Branch either by mail at 244 Needy Road, Martinsburg, WV 25405, by email at fipb-informationcollection@atf.gov, or by telephone at 304-267-1994.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Licensed Firearms Manufacturers Records of Production, Disposition, and Supporting Data

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): None.

Abstract: Firearm manufacturers' records are permanent records of all firearms manufactured and records of their disposition. These records are vital to support ATF's mission to inquire about the disposition of any firearm in the course of a criminal investigation.

5. An estimate of the total number of respondents and the amount of time estimated for an average respondent to respond: An estimated 9,056 respondents will respond approximately 1,269.59375 times, and it will take each respondent approximately 1.05 minutes to complete each response.

6. An estimate of the total public burden (in hours) associated with the collection: The estimated annual public burden associated with this collection is 201,205 hours which is equal to 9,056 (# of respondents) * 1,269.59375 (# of responses per person) * .0175 (1.05 minutes).

7. An Explanation of the Change in Estimates: The increase in total responses by 6,678, total respondents by 1,523,647 and total burden hours by 23,673, are due to a general increase in both the number of firearms manufacturers that respond to this collection and the number of firearms produced each year.

If additional information is required contact: Melody Braswell, Department Clearance Officer, United States Department of Justice, Justice Management Division, Policy and Planning Staff, Two Constitution Square, 145 N Street NE, 3E.405A, Washington, DC 20530.

Dated: March 29, 2018.
Melody Braswell,
Department Clearance Officer for PRA, U.S. Department of Justice.

[FR Doc. 2018-06768 Filed 4-3-18; 8:45 am]

BILLING CODE 4410-FY-P